FEDERAL COMMUNICATIONS COMMISSION

[DA 00-1877]

Common Carrier Bureau and NARUC; Industry Forum on Implementation of Slamming Liability Procedures

AGENCY: Federal Communications Commission.

ACTION: Notice of meeting.

SUMMARY: This document announces that the Federal Communications Commission's Common Carrier Bureau and the National Association of Regulatory Utility Commissioners' (NARUC) Committee on Consumer Affairs will jointly host an industry forum to discuss implementation of the Commission's slamming liability rules and procedures.

DATES: Wednesday, August 23, 2000 from 9:30 a.m. to 12 noon.

ADDRESSES: Federal Communications Commission 445 12th St., SW., Room TW-C305 (Commission Meeting Room).

FOR FURTHER INFORMATION CONTACT: Michele Walters, 202-418-7400, mwalters@fcc.gov; Bev DeMello, 850-413-6107, bdemello@psc.state.fl.us; or William Cox, 202-418-7400, wcox@fcc.gov.

SUPPLEMENTARY INFORMATION: The purpose of the industry forum is to discuss implementation of the Commission's new slamming liability rules and procedures adopted in Implementation of the Subscriber Carrier Selection Changes Provisions of the Telecommunications Act of 1996; Policies and Rules Concerning Unauthorized Changes of Consumers' Long Distance Carriers, CC Docket No. 94-129, First Order on Reconsideration, FCC 00-135 (released May 3, 2000), 65 FR 47678 (August 3, 2000). The industry forum is an outgrowth of the state-industry working group established by NARUC's Committee on Consumer Affairs to address the implementation of this order. Representatives of the Commission's Common Carrier Bureau and NARUC's Committee on Consumer Affairs, as well as representatives of the Commission's Consumer Information and Enforcement Bureaus, will be on hand to discuss industry questions about the implementation of the slamming liability rules and procedures.

Industry representatives and members of the public may attend the industry forum. Admittance will be limited to the seating available. Persons planning to attend the industry forum should notify one of the contacts listed above. A videotape of the meeting will be filed in CC Docket No. 94-129.

Dated: August 16, 2000.
Federal Communications Commission.
Yog Varma,
Deputy Chief, Common Carrier Bureau.

[FR Doc. 00-21372 Filed 8-18-00; 8:45 am]

BILLING CODE 6712-01-P